DEPARTMENT OF COMMERCE

International Trade Administration

Notice of Amendments to the Trade Mission to South America in Conjunction With the Trade Americas-Business Opportunities in South America Conference

AGENCY: International Trade Administration, Department of Commerce.

ACTION: Notice.

SUMMARY: The United States Department of Commerce, International Trade Administration, is amending the Notice published at 86 FR 21697 (April 23, 2021), regarding the Trade Mission to South America in conjunction with the Trade Americas—Business Opportunities in South America Conference, scheduled from December 5-10, 2021, to amend the dates and deadline for submitting applications for the event.

SUPPLEMENTARY INFORMATION: Amendments to Revise the Regional Conference Dates, and Deadline for Submitting Applications

Background

The dates of ITA's planned Trade Mission to the Caribbean Region and Conference have been modified from December 5-10, 2021, to May 15-20, 2022. The new deadline for applications has been extended to January 28, 2022 (and after that date if space remains and scheduling constraints permit). Interested U.S. companies and trade associations/organizations that have not already submitted an application are encouraged to do so. The proposed schedule is updated as follows:

Proposed Timetable
Saturday, May 14, 2022 | Travel Day/Arrival in São Paulo. Optional Local Tour/Activities.
Sunday, May 15, 2022 | São Paulo, Brazil. Afternoon: Registration, Briefing and U.S. Embassy Officer Consultations. Evening: Networking Reception.
Monday, May 16, 2022 | São Paulo, Brazil. Morning: Registration and Trade Americas—Business Opportunities in South America Conference. Afternoon: U.S. Embassy Officer Consultations. Evening: Networking Reception.
Optional
Tuesday-Friday, May 17-20, 2022 | Travel and Business-to-Business Meetings in (choice of two markets): Option (A) Brazil. Option (B) Argentina. Option (C) Bolivia. Option (D) Chile. Option (E) Colombia. Option (F) Guyana. Option (G) Peru. Option (H) Paraguay. Option (I) Suriname. Option (J) Uruguay.)
Saturday, May 21, 2022 | Travel Day.

The U.S. Department of Commerce will review applications and make selection decisions on a rolling basis in accordance with the Notice published at 86 FR 21697 (April 23, 2021). The applicants selected will be notified as soon as possible.

Contacts

U.S. Trade Americas Team Contact Information:

Laura Krishnan, International Trade Specialist, Office of Latin America and the Caribbean—International Trade Administration—Washington, DC, laura.krishnan@trade.gov, Tel: 202-482-4187

Diego Gattesco, Director, U.S. Commercial Service Wheeling, WV, Diego.Gattesco@trade.gov

Gemal Brangman,
Acting Director, ITA Events Management Task Force.

[FR Doc. 2021-23615 Filed 10-28-21; 8:45 am]

BILLING CODE 3510-DR-P